DEPARTMENT OF COMMERCE

National Oceanic and Atmospheric Administration

[I.D. 051706B]

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings/hearing in Kodiak, AK.

DATES: The meetings will be held on June 5, 2006 through June 13, 2006. See SUPPLEMENTARY INFORMATION for specific dates and times.

ADDRESSES: See SUPPLEMENTARY INFORMATION for specific locations of meetings/hearing.

Council address: North Pacific Fishery Management Council, 605 W. 4th Avenue, Suite 306, Anchorage, AK 99501-2252.

FOR FURTHER INFORMATION CONTACT: Council staff, telephone: (907) 271-2809.

SUPPLEMENTARY INFORMATION: The Council will begin its plenary session at 8 a.m. on Wednesday, June 7, continuing through June 13, 2006. The Council will hold a Groundfish Rationalization Public Hearing on June 6, 2006, from 9 a.m. to 5 p.m. The Council's Advisory Panel (AP) will begin at 8 a.m., Monday, June 5 and continue through Saturday June 10, 2006. The Scientific and Statistical Committee (SSC) will begin at 8 a.m. on Monday, June 5 and continue through Wednesday, June 7, 2006. The Enforcement Committee will meet Monday, June 5, from 1 p.m. to 5 p.m. in the Harbor Room. All meetings are open to the public except executive sessions.

The meetings/hearing will be held at the following locations:

Council meeting address: Westmark Kodiak Inn, 236 Rezanof Drive, Harbor Room, Kodiak, AK.

AP meeting address: Elks Club, 102 Marine Way, Kodiak, AK.

SSC meeting address: Fishermen's Hall, 503 Marine Way, Kodiak, AK.

Public hearing address: Kodiak Island Borough School District, 722 Mill Bay Road, Commons A&B, Kodiak, AK.

Council Plenary Session: The agenda for the Council's plenary session will include the following issues. The Council may take appropriate action on any of the issues identified.

1. Reports

a. Executive Director's Report

b. NMFS Management Report (including report on total allowable catch (TAC) setting EIGH alternatives and potential comment)

c. NMFS Enforcement Report

d. U.S. Coast Guard Report

e. NMFS Enforcement Report

f. Alaska Department of Fish & Game Report

g. U.S. Fish & Wildlife Service Report

h. Protected Species Report (seabird report, Steller Sea Lion (SSL) compendium, SSL recovery plan, Right whale Critical Habitat, Fishery Management Plan Biological Opinion.

2. Improved Retention/Improved Utilization (IR/IU): Final action on Amendment 80; Review proposed data collection programs, and take action as necessary. Initial review of Maximum Retainable Amount (MRA) adjustments.

3. Community Development Communities: Status report on legislation and implication for Amendment 71.

4. Trawl Catcher Vessel (CV) eligibility: Progress report on analysis.

5. Halibut Charter: Review and refine moratorium alternatives, Receive stakeholder, committee report and determine direction: NMFS report on enforcement of Guideline Harvest Level (GHL) preferred alternative (5-fish annual limit).

6. Observer Program: Final action on Observer Program analysis; Review discussion paper on video monitoring.

7. Halibut/Sablefish Individual Fishing Quota (IFQ) Program: Final action on IFQ Omnibus 5 amendments.

8. Groundfish Management: Review Experimental Fishery Permit to test halibut excluder for Gulf of Alaska cod trawl fishery; Receive progress report on trawl excluder research.

9. Essential Fish Habitat (EFH): Review discussion paper on Bering Sea habitat conservation alternatives, and take action as necessary; Receive discussion paper on Bering Sea crab habitat and fishery interactions, and take action as necessary.

10. Crab Management: Preliminary review of Crab Overfishing definition (SSC only): Receive report from Crab Plan Team; Receive State/Federal Action Plan.

11. Ecosystem Based Management: Receive Committee report and take action as necessary.

12. Staff Tasking: Review Committees and tasking and take action as necessary.

13. Other Business The SSC agenda will include the following issues:

1. Protected Species Report

2. IR/IU MRA data

3. AI CV Eligibility

4. Observer Program

5. Groundfish Management

6. EFH

7. Crab Management

8. Ecosystem Management

The Advisory Panel will address the same agenda issues as the Council.

Special Accommodations

These meetings are physically accessible to people with disabilities. Requests for sign language interpretation or other auxiliary aids should be directed to Gail Bendixen at (907) 271-2809 at least 7 working days prior to the meeting date.

Dated: May 17, 2006.
Tracey L. Thompson,
Acting Director, Office of Sustainable Fisheries, National Marine Fisheries Service.

[FR Doc. E6-7767 Filed 5-19-06; 8:45 am]

BILLING CODE 3510-22-S